DEPARTMENT OF HEALTH AND HUMAN SERVICES

Centers for Medicare & Medicaid Services

[Document Identifier: CMS-1771, CMS-10145, CMS-10204 and CMS-10255]

Agency Information Collection Activities: Submission for OMB Review; Comment Request

AGENCY: Centers for Medicare & Medicaid Services, Department of Health and Human Services.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Extension of a currently approved collection; Title of Information Collection: Attending Physicians Statement and Documentation of Medicare Emergency and Supporting Regulations in 42 CFR 424.103; Use: 42 CFR 424.103(b) requires that before a nonparticipating hospital may be paid for emergency services rendered to a Medicare beneficiary, a statement must be submitted that is sufficiently comprehensive to support that an emergency existed. Form CMS-1771 contains a series of questions relating to the medical necessity of the emergency. The attending physician must attest that the hospitalization was required under the regulatory emergency definition (42 CFR 424.101) and give clinical documentation to support the claim. Form Number: CMS-1771 (OMB# 0938-0023); Frequency: Yearly; Affected Public: Private sector—business or other for-profit and not-for-profit institutions; Number of Respondents: 100; Total Annual Responses: 200; Total Annual Hours: 50.

2. Type of Information Collection Request: Revision of a currently approved collection; Title of Information Collection: Medicare Part B Drug and Biological Competitive Acquisition Program and Supporting Regulations in 42 CFR Sections 414.906, 414.908, 414.910, 414.914, 414.916, and 414.917; Use: Section 303(d) of the Medicare Prescription Drug, Improvement, and Modernization Act of 2003 (MMA) provides an alternative payment methodology for Part B covered drugs that are not paid on a cost or prospective payment basis. In particular, Section 303(d) of the MMA amends Title XVIII of the Social Security Act by adding a new section 1847(B), which establishes a competitive acquisition program for the acquisition of and payment for Part B covered drugs and biologicals furnished on or after January 1, 2006. Since its inception, additional legislation has augmented the CAP. Section 108 of the Medicare Improvements and Extension Act under Division B, Title I of the Tax Relief Health Care Act of 2006 (MIEA-TRHCA) amended Section 1847b(a)(3) of the Social Security Act and requires that CAP implement a post payment review process. This procedure is done to assure that payment is made for a drug or biological under this section only if the drug or biological has been administered to a beneficiary. Form Number: CMS-10145 (OMB# 0938-0945); Frequency: Weekly; Affected Public: Private sector—business or other for-profit and not-for-profit institutions; Number of Respondents: 3000; Total Annual Responses: 156,000; Total Annual Hours: 31,188.

3. Type of Information Collection Request: Revision of a currently approved collection; Title of Information Collection: Evaluation of the Medical Adult Day Care Services Demonstration; Use: Section 703 of the Medicare Prescription Drug, Improvement and Modernization Act of 2003 (Pub. L. 108-173) authorizes a three-year demonstration to conduct an evaluation of the clinical and cost-effectiveness of providing medical adult day-care services as a substitute for a portion of home health services that would otherwise be provided in the beneficiary's home. Delivering home health services in the adult day-care setting represents an expansion of coverage under the home health benefit under Medicare. The Demonstration aims to evaluate both the costs and the benefits of delivering home health services in the adult day-care setting. The evaluation will examine the achievements as well as the difficulties inherent in demonstration implementation.

Telephone survey data from Medicare beneficiary's interviews are to be completed during Phase II of the Evaluation of the Medical Adult Day-Care Services Demonstration. The survey was developed based on collection of data from face-to-face interviews with beneficiaries from Phase I of the Demonstration evaluation. Form Number: CMS-10204 (OMB# 0938-1017); Frequency: Once; Affected Public: Individuals or households; Number of Respondents: 900; Total Annual Responses: 900; Total Annual Hours: 150.

4. Type of Information Collection Request: New collection; Title of Information Collection: Evaluation of Care and Disease Management Under Medicare Advantage. Use: CMS is conducting an evaluation of care and disease management programs under Medicare Advantage (MA), which includes a survey of all MA plans. The survey will help describe the structure and operation of these programs. The survey will gather information about MA health plans' care and disease management programs that is not available from other sources, such as relations with health providers, the use of electronic data systems, characteristics of care and disease management programs, population served, physician intervention, differences with regular MA plans and special needs plans, and evidence of effectiveness and assessment of costs. Information is collected through a one-time, self-administered mail questionnaire. [Refer to the crosswalk and track changes document for a list of changes to this information collection request since the last Federal Register publication.] Form Number: CMS-10255 (OMB# 0938-New); Frequency: Once; Affected Public: Private sector—business or other for-profit and not-for-profit institutions; Number of Respondents: 475; Total Annual Responses: 475; Total Annual Hours: 435.

To obtain copies of the supporting statement and any related forms for the proposed paperwork collections referenced above, access CMS Web site address at http://www.cms.hhs.gov/PaperworkReductionActof1995, or E-mail your request, including your address, phone number, OMB number, and CMS document identifier, to Paperwork@cms.hhs.gov, or call the Reports Clearance Office at (410) 786-1326.

To be assured consideration, comments and recommendations for the proposed information collections must be received by the OMB desk officer at the address below, no later than 5 p.m. on May 27, 2008.

OMB Human Resources and Housing Branch, Attention: Carolyn Raffaelli, New Executive Office Building, Room 10235, Washington, DC 20503, Fax Number: (202) 395-6974.

Dated: April 17, 2008.
Michelle Shortt,
Director, Regulations Development Group, Office of Strategic Operations and Regulatory Affairs.

[FR Doc. E8-9067 Filed 4-24-08; 8:45 am]

BILLING CODE 4120-01-P